DEPARTMENT OF DEFENSE

Office of the Secretary

Board of Visitors National Defense University; Notice of Federal Advisory Committee Meeting

AGENCY: Office of the Chairman Joint Chiefs of Staff, Department of Defense.

ACTION: Notice of Federal Advisory Committee Meeting.

SUMMARY: The Department of Defense (DoD) is publishing this notice to announce that the following Federal Advisory Committee meeting of the Board of Visitors National Defense University will take place.

DATES: Day 1—Open to the public Tuesday, July 11, 2017 from 1:00 p.m. to 4:45 p.m. Day 2—Open to the public Wednesday, July 12, 2017 from 8:30 a.m. to 12:00 p.m.

ADDRESSES: Marshall Hall, Building 62, Room 155B, the National Defense University, 300 5th Avenue SW., Fort McNair, Washington, DC 20319-5066.

FOR FURTHER INFORMATION CONTACT: Richard Cabrey; Joycelyn Stevens, (703) 283-7604 (Voice), (202) 685-3920 (Facsimile), richard.m.cabrey.civ.@mail.mil; richard.cabrey@ndu.edu; joycelyn.a.stevens.civ@mail.mil; stevensj7@ndu.edu (Email). Mailing address is National Defense University, Fort McNair, Washington, DC 20319-5066. Web site: http://www.ndu.edu/About/Board-of-Visitors/. The most up-to-date changes to the meeting agenda can be found on the Web site.

SUPPLEMENTARY INFORMATION: Due to circumstances beyond the control of the Designated Federal Officer and the Department of Defense, the Board of Visitors National Defense University was unable to provide public notification concerning its meeting on July 11 through 12, 2017, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150. Pursuant to 5 U.S.C. 552b and 41 CFR 102-3.140 through 102-3.165, and the availability of space, this meeting is open to the public.

Purpose of the Meeting: The purpose of the meeting will include discussion on accreditation compliance, organizational management, strategic planning, resource management, and other matters of interest to the National Defense University.

Agenda

Tuesday, July 11, 2017

Room 155A/B, Marshall Hall

1:00 p.m.—Call to Order

Mr. Richard Cabrey, Designated Federal Officer

1:00 p.m. to 1:15 p.m.—Administrative Notes

Mr. Cabrey; General Lloyd “Fig” Newton, USAF (Retired), BOV Chair

1:15 p.m. to 1:45 p.m.—Video and State of the University Address

Major General Frederick M. Padilla, NDU President

1:45 p.m. to 2:30 p.m.—State of the NDU Budget

Major General Robert Kane, USAF (Retired), Chief Operating Officer; Mr. Jay Helming, Chief Financial Officer

2:30 p.m. to 3:00 p.m.—Review of the Process for the Accreditation of Joint Education (PAJE) Visits for NDU Programs

Dr. John Yaeger, NDU Provost

3:00 p.m. to 3:15 p.m.—BREAK

3:15 p.m. to 4:15 p.m.—College Value Propositions

Rear Admiral Janice Hamby, USN (Ret), Chancellor, College of Information and Cyberspace; Dr. Charles Cushman, Jr., Interim Chancellor, College of International Security Affairs; Rear Admiral Jeffrey Ruth, Commandant, Joint Forces Staff College; Brigadier General Chad Manske, Commandant, National War College; Brigadier General Paul Fredenburgh III, Commandant, the Eisenhower School

4:15 p.m. to 4:30 p.m.—Industry Fellows Recruitment Strategy

Brigadier General Fredenburgh III

4:30 p.m. to 4:45 p.m.—Day One Wrap Up

General Newton and Major General Padilla

4:45 p.m.—Meeting Ends for the Day

Mr. Cabrey

Wednesday, July 12, 2017

Room 155A/B, Marshall Hall

8:30 a.m.—Call to Order

Mr. Cabrey

8:30 a.m. to 9:00 a.m.—Information Technology/Academic Technology Migration Progress Update

Rear Admiral Diane Webber, USN (Retired), Chief Information Officer

9:00 a.m. to 9:30 a.m.—Cyber Curriculum Review

Rear Admiral Hamby

9:30 a.m. to 10:00 a.m.—Faculty and Staff Command Climate Survey Results and Analysis

Dr. B.J. Miller, NDU Director of Institutional Research, Planning and Assessment

10:00 a.m. to 10:45 a.m.—Planning Process for Strategic Plan AY 2018-2019 to AY 2023-2024

Dr. Yaeger and Major General Kane

10:45 a.m. to 11:00 a.m.—BREAK

11:00 a.m. to 11:45 a.m.—BOV Member Feedback

Board Members

11:45 a.m. to 12:00 p.m.—Wrap-up and Closing Remarks

General Newton and Major General Padilla

Meeting Accessibility: Limited space made available for observers will be allocated on a first come, first served basis. Meeting location is handicap accessible.

Written Statements: Pursuant to 41 CFR 102-3.105(j) and 102-3.140, and section 10(a)(3) of the Federal Advisory Committee Act of 1972, written statements to the committee may be submitted to the committee at any time or in response to a stated planned meeting agenda by FAX or email to Ms. Joycelyn Stevens at (202) 685-0079, Fax (202) 685-3920 or StevensJ7@ndu.edu.

Dated: June 26, 2017.
Aaron Siegel,
Alternate OSD Federal Register Liaison Officer, Department of Defense.

[FR Doc. 2017-13637 Filed 6-28-17; 8:45 am]

BILLING CODE 5001-06-P